DEPARTMENT OF LABOR

Employment and Training Administration

[TA-W-58,663]

Classic Print Products, Inc., Burlington, NC; Notice of Revised Determination on Reconsideration

By letter dated March 15, 2006, a company official requested administrative reconsideration regarding the Department's Negative Determination Regarding Eligibility to Apply for Worker Adjustment Assistance, applicable to the workers of the subject firm. On April 12, 2006, a Notice of Dismissal of Application for Reconsideration was issued, stating that the application did not contain new information supporting a conclusion that the determination was erroneous and did not provide a justification for reconsideration of the determination that was based on either mistaken facts or a misinterpretation of facts or of the law.

The petition, filed on behalf of workers at the subject firm producing sublimated printed paper, asserted that production of sublimated printed paper had shifted abroad. The denial, issued on March 1, 2006, was based on the findings that neither the subject firm nor surveyed customers imported sublimation printed paper during the relevant period and that the subject firm did not shift production abroad during the investigation period. The Department's Notice of determination was published in the Federal Register on March 24, 2006 (70 FR 14954).

Upon receipt of new information by the company official regarding the article produced at the subject firm, the Department conducted an investigation to determine whether the subject worker group is eligible to apply for worker adjustment assistance as provided by the Trade Act of 1974, as amended.

The new information indicated that the subject firm used sublimated printed paper as a medium to transfer ink graphics onto substrates. The substrates were then incorporated into the customer's final products (water boards and snow boards).

The investigation revealed that the subject firm supplied component parts (substrates) and a loss of business with a manufacturer of water boards and snow boards whose workers were certified eligible to apply for adjustment assistance contributed importantly to the separation or threat of separation of workers at Classic Print Products, Inc., Burlington, North Carolina.

In accordance with section 246 the Trade Act of 1974 (26 U.S.C. 2813), as amended, the Department of Labor herein presents the results of its investigation regarding certification of eligibility to apply for Alternative Trade Adjustment Assistance (ATAA) for older workers.

In order for the Department to issue a certification of eligibility to apply for ATAA, the group eligibility requirements of Section 246 of the Trade Act must be met. The Department has determined in this case that the requirements of section 246 have been met.

A significant number of workers at the firm are age 50 or over and possess skills that are not easily transferable. Competitive conditions within the industry are adverse.

Conclusion

After careful review of the information obtained in the reconsideration investigation, I determine that workers of Classic Print Products, Inc., Burlington, North Carolina qualify as adversely affected secondary workers under section 222 of the Trade Act of 1974, as amended. In accordance with the provisions of the Act, I make the following certification:

All workers of Classic Print Products, Inc., Burlington, North Carolina, who became totally or partially separated from employment on or after January 17, 2005 through two years from the date of this certification, are eligible to apply for adjustment assistance under Section 223 of the Trade Act of 1974, and are eligible to apply for alternative trade adjustment assistance under Section 246 of the Trade Act of 1974.

Signed in Washington, DC this 17th day of April 2006.
Elliott S. Kushner,
Certifying Officer, Division of Trade Adjustment Assistance.

[FR Doc. E6-6093 Filed 4-21-06; 8:45 am]

BILLING CODE 4510-30-P